COMMISSION ON CIVIL RIGHTS

Agenda and Notice of Public Meeting of the Vermont State Advisory Committee

Notice is hereby given, pursuant to the provisions of the rules and regulations of the U.S. Commission on Civil Rights, that a planning with briefing meeting for the Vermont State Advisory Committee will convene at 10 a.m. and adjourn at 1 p.m. on Friday, March 31, 2006 in Room 11 at the Vermont State House located at 115 State Street in Montpelier, Vermont. The purpose of the planning with briefing meeting is for the committee to gather information regarding the civil rights of immigrants and refugees in Vermont and plan future activities.

Persons desiring additional information should contact Barbara de La Viez of the Eastern Regional Office, 202-376-7533 (TTY 202-376-8116). Hearing impaired persons who will attend the meeting and require the services of a sign language interpreter should contact the Eastern Regional Office at least 10 (ten) working days before the scheduled date of the planning with briefing meeting. It was not possible to publish this notice 15 days in advance of the meeting date because of internal processing delays.

The planning with briefing meeting will be conducted pursuant to the provisions of the rules and regulations of the Commission.

Dated at Washington, DC, March 21, 2006.
Ivy L. Davis,
Acting Chief, Regional Programs Coordination Unit.

[FR Doc. E6-4364 Filed 3-24-06; 8:45 am]

BILLING CODE 6335-01-P